FARM CREDIT ADMINISTRATION

12 CFR Part 627

RIN 3052-AC26

Title IV Conservators, Receivers, and Voluntary Liquidations; Receivership Repudiation Authorities; Effective Date

AGENCY: Farm Credit Administration.

ACTION: Notice of effective date.

SUMMARY: The Farm Credit Administration (FCA) published a final rule under part 627 on September 22, 2005 (70 FR 55513). This final rule gives certainty to Farm Credit System institutions regarding how the Farm Credit System Insurance Corporation will treat qualifying participations and securitizations if the institution is subsequently placed in conservatorship or receivership. In accordance with 12 U.S.C. 2252, the effective date of the final rule is 30 days from the date of publication in the Federal Register during which either or both Houses of Congress are in session. Based on the records of the sessions of Congress, the effective date of the regulations is November 14, 2005.

DATES: The regulation amending 12 CFR part 627, published on September 22, 2005 (70 FR 55513) is effective November 14, 2005.

FOR FURTHER INFORMATION CONTACT: Robert E. Donnelly, Senior Accountant, Office of Policy and Analysis, Farm Credit Administration, McLean, VA 22102-5090, (703) 883-4498, TTY (703) 883-4434; or Rebecca S. Orlich, Senior Attorney, Office of General Counsel, Farm Credit Administration, McLean, VA 22102-5090, (703) 883-4020, TTY (703) 883-4020.

(12 U.S.C. 2252(a)(9) and (10))

Dated: November 15, 2005.
Jeanette C. Brinkley,
Secretary, Farm Credit Administration Board.

[FR Doc. 05-23001 Filed 11-18-05; 8:45 am]

BILLING CODE 6705-01-P